DEPARTMENT OF TRANSPORTATION

Federal Railroad Administration

Petition for Waiver of Compliance and Notice of Public Hearing

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favour of relief.

Canadian Pacific Railway

[Docket Number FRA-1999-6139]

The Canadian Pacific Railway (CPR), on behalf of itself and its Delaware and Hudson (D&H) and SOO Line (SOO) subsidiaries, seeks a permanent waiver of compliance with the Locomotive Safety Standards, 49 CFR 229.47(a), which requires each car body type road locomotive be equipped with an emergency brake valve adjacent to each end exit door, that these brake pipe valve locations shall be stencilled as “EMERGENCY BRAKE VALVE” or shall be identified on adjacent badge plate. CPR seeks this waiver for 25 car body locomotives (Electro-Motive Division SD40-F models, R/N CP 9000-9024) utilized to haul freight, that have never been equipped with an emergency brake valve at the rear exit door. CPR states that they do not believe the emergency brake valve at the rear exit of these locomotives would serve a meaningful purpose since the locomotives are equipped with a rear exterior walkway which is used by crew members during reverse movements, enabling them to signal the locomotive engineer if they see a need for a brake application, and putting the crew member in a position where he could not reach the emergency brake valve, even if it was present.

Interested parties are invited to participate in these proceedings by submitting written views, data, or comments. In addition, the FRA has determined that a public hearing is necessary before a final decision is made on this proposal.

Accordingly, a public hearing is hereby set for 9 a.m. on Wednesday, April 12, 2000, at DOT Headquarters, located at 400 Seventh Street, SW, Washington, DC, Room 2230. Interested parties are invited to present oral statements at the hearing. This hearing will be held immediately following a hearing being held on another waiver petition filed by CPR (see Docket Number FRA-1999-5894, available for inspection on the Internet at the docket facility's Web site at http://dms.dot.gov.)

The hearing will be an informal one and will be conducted in accordance with Rule 25 of the FRA Rules of Practice (49 CFR 211.25), by a representative designated by the FRA.

The hearing will be a nonadversarial proceeding and, therefore, there will be no cross-examination of persons presenting statements. The FRA representative will make an opening statement outlining the scope of the hearing. After all initial statements have been completed, those persons wishing to make brief rebuttal statements will be given the opportunity to do so in the same order in which they made their initial statements. Additional procedures, if necessary for the conduct of the hearing, will be announced at the hearing.

All communications concerning these proceedings should identify the appropriate docket number (e.g., Waiver Petition Docket Number FRA-1999-6139) and must be submitted to the DOT Docket Management Facility, Room PL-401 (Plaza Level), 400 Seventh Street SW, Washington, DC., 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC, on March 29, 2000.
Grady C. Cothen, Jr.,
Deputy Associate Administrator for Safety Standards and Program Development.

[FR Doc. 00-8379 Filed 4-4-00; 8:45 am]

BILLING CODE 4910-06-P